DEPARTMENT OF JUSTICE

Notice of Lodging of Proposed Consent Decree Under the Clean Air Act

On April 28, 2020, the Department of Justice lodged a proposed Consent Decree with the United States District Court for the Southern District of Texas in the lawsuit entitled United States v. Airgas USA, LLC and Air Liquide Large Industries U.S. LP, Case No. 4:20-cv-1495.

The proposed Consent Decree resolves the claims of the United States under Sections 113(b)(2) and 112(r) of the Clean Air Act (“CAA”), 42 U.S.C. 7413(b)(2) and 7412(r), that Settling Defendants violated the Chemical and Accident Prevention Provisions for Air Programs at their four gas facilities located in La Porte, Freeport and Pasadena, Texas. Under the proposed Consent Decree, Settling Defendants have agreed to pay a civil of penalty of $257,000, and implement an Enhanced Compliance Audit Protocol at their three currently operating facilities in Texas, to resolve the government's claims.

The publication of this notice opens a period for public comment on the Consent Decree. Comments should be addressed to the Assistant Attorney General, Environment and Natural Resources Division, and should refer to Airgas USA, LLC and Air Liquide Large Industries U.S. LP, Case No. 4:20-cv-1495, D.J. Ref. No. 90-5-2-1-07132/2. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $7.75 (25 cents per page reproduction cost) payable to the United States Treasury.

Thomas Carroll,
Assistant Section Chief, Environmental Enforcement Section, Environment and Natural Resources Division.

[FR Doc. 2020-09426 Filed 5-1-20; 8:45 am]

BILLING CODE 4410-15-P